FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011279-027.

Title: Latin America Agreement.

Parties: ABC Discussion Agreement; Caribbean Shipowners Association; Central America Discussion Agreement; Compania Libra de Navegacion Uruguay S.A.; Inland Shipping Services Association; Venezuelan Discussion Agreement; West Coast of South America Discussion Agreement; and Zim Integrated Shipping Services, Ltd.

Filing Party: Wayne R. Rohde, Esq.; Sher & Blackwell LLP; 1850 M Street, NW.; Suite 900; Washington, DC 20036.

Synopsis: The amendment deletes the Hispaniola Discussion Agreement as a party to the Agreement and updates the membership of various constituent agreements.

Agreement No.: 011794-012.

Title: COSCON/KL/YMUK/Hanjin Worldwide Slot Allocation & Sailing Agreement.

Parties: COSCO Container Lines Company, Limited; Kawasaki Kisen Kaisha, Ltd.; Yangming (UK) Ltd.; and Hanjin Shipping Co., Ltd.

Filing Party: Robert B. Yoshitomi, Esq.; Nixon Peabody LLP; 555 West Fifth Street, 46th Floor; Los Angeles, CA 90013.

Synopsis: The amendment authorizes communications within the Agreement regarding operational matters where parties to the Agreement share space with outside parties.

Agreement No.: 012104.

Title: Tropical Shipping & Construction Co., Ltd. and Discovery Sun Partnership Space Agreement.

Parties: Discovery Sun Partnership and Tropical Shipping & Construction Co., Ltd.

Filing Parties: Neal M. Mayer, Esq.; Hoppel, Mayer & Coleman; 1050 Connecticut Avenue, NW., 10th Floor; Washington, DC 20036.

Synopsis: The agreement authorizes Discovery Sun Partnership to provide space to Tropical Shipping & Construction Co., Ltd. in the trade between the U.S. East Coast and ports in the Bahamas.

Dated: July 9, 2010.
By Order of the Federal Maritime Commission.
Karen V. Gregory,
Secretary.

[FR Doc. 2010-17177 Filed 7-13-10; 8:45 am]

BILLING CODE 6730-01-P